COMMODITY FUTURES TRADING COMMISSION

17 CFR Parts 43 and 45

RIN 3038-AF26

Real-Time Public Reporting Requirements and Swap Data Recordkeeping and Reporting Requirements; Reopening of Comment Period

AGENCY: Commodity Futures Trading Commission.

ACTION: Reopening of comment period.

SUMMARY: On December 28, 2023, the Commodity Futures Trading Commission (“Commission” or “CFTC”) published in the Federal Register a notice of proposed rulemaking (“Proposed Rule” or “NPRM”) titled Real-Time Public Reporting Requirements and Swap Data Recordkeeping and Reporting Requirements. The comment period for the Proposed Rule closed on February 26, 2024. The Commission is reopening the comment period for this NPRM for an additional forty-five days from the date the original comment period closed.

DATES: The comment period for the proposed rule published December 28, 2023, at 88 FR 90046, is reopened. Comments must be received on or before April 11, 2024.

ADDRESSES: You may submit comments, identified by “Real-Time Public Reporting Requirements and Swap Data Recordkeeping and Reporting Requirements, RIN 3038-AF26,” by any of the following methods:

• CFTC Comments Portal: https://comments.cftc.gov/. Select the “Submit Comments” link for this rulemaking and follow the instructions on the Public Comment Form.

• Mail: Send to Christopher Kirkpatrick, Secretary of the Commission, Commodity Futures Trading Commission, Three Lafayette Centre, 1155 21st Street NW, Washington, DC 20581.

• Hand Delivery/Courier: Follow the same instructions as for Mail above.

Please submit your comments using only one of these methods. To avoid possible delays with mail or in-person deliveries, submissions through the CFTC Comments Portal are encouraged.

All comments must be submitted in English, or if not, accompanied by an English translation. Comments will be posted as received to https://comments.cftc.gov. You should submit only information that you wish to make available publicly. If you wish the Commission to consider information that you believe is exempt from disclosure under the Freedom of Information Act (“FOIA”), a petition for confidential treatment of the exempt information may be submitted according to the procedures established in § 145.9 of the Commission's regulations.¹

¹ 17 CFR 145.9.

The Commission reserves the right, but shall have no obligation, to review, pre-screen, filter, redact, refuse, or remove any or all of your submission from https://comments.cftc.gov that it may deem to be inappropriate for publication, such as obscene language. All submissions that have been redacted or removed that contain comments on the merits of the rulemaking will be retained in the public comment file and will be considered as required under the Administrative Procedure Act and other applicable laws, and may be accessible under the FOIA.

FOR FURTHER INFORMATION CONTACT: Owen J. Kopon, Associate Chief Counsel, at (202) 418-5360 or okopon@cftc.gov; Alicia Viguri, Assistant Chief Counsel, at (202) 418-5219 or aviguri@cftc.gov; or Isabella Bergstein, Assistant Chief Counsel, at (202) 418-5182 or ibergstein@cftc.gov; Division of Market Oversight, in each case at the Commodity Futures Trading Commission, 1155 21st Street NW, Washington, DC 20581.

SUPPLEMENTARY INFORMATION: On December 28, 2023, the Commission published proposed amendments ² to parts 43 and 45 that would: allow for continued geographic masking after the designation of the unique product identifier and product classification system (“UPI”) for swaps in the other commodity asset class; implement conforming changes in connection with the geographic masking requirement; add reportable data fields to appendix A to part 43 and appendix 1 to part 45 that promote international harmonization and further the Commission's surveillance and analysis activities; and implement non-substantive revisions to the descriptions of the existing reportable data elements in such appendices. The comment period for the NPRM closed on February 26, 2024.

² Real-Time Public Reporting Requirements and Swap Data Recordkeeping and Reporting Requirements, 88 FR 90046 (Dec. 28, 2023).

In a February 12, 2024, Request Letter,³ commenters express concerns that the originally allotted 60-day comment period is insufficient. The Commission is reopening the comment period for an additional forty-five days from the date the original comment period closed in order to allow interested persons additional time to analyze the proposal and prepare their comments.

³ See Letter from the International Swaps and Derivatives Association (“ISDA”), Ice Trade Vault, LLC (“ICE”), DTCC Data Repository (US) LLC (“DDR”), and KOR Reporting Inc. (“KOR”), dated February 12, 2024. Available at https://comments.cftc.gov/PublicComments/ViewComment.aspx?id=73263&SearchText=(“Request Letter”). The requested extension comment period was through April 15, 2024.

Issued in Washington, DC, on February 26, 2024, by the Commission.
Robert Sidman,
Deputy Secretary of the Commission.

Note: The following appendix will not appear in the Code of Federal Regulations.

Appendix to Real-Time Public Reporting Requirements and Swap Data Recordkeeping and Reporting Requirements—Commission Voting Summary

On this matter, Chairman Behnam and Commissioners Johnson, Goldsmith Romero, Mersinger, and Pham voted in the affirmative. No Commissioner voted in the negative.

[FR Doc. 2024-04255 Filed 2-28-24; 8:45 am]

BILLING CODE 6351-01-P